DEPARTMENT OF DEFENSE

Defense Logistics Agency

Privacy Act of 1974; Systems of Records

AGENCY: Defense Logistics Agency.

ACTION: Notice to alter systems of records.

SUMMARY: The Defense Logistics Agency proposes to alter a system of records notice in its inventory of record systems subject to the Privacy Act of 1974 (5 U.S.C. 552a), as amended.

DATES: This action will be effective without further notice on July 2, 2001 unless comments are received that would result in a contrary determination.

ADDRESSES: Send comments to the Privacy Act Officer, Headquarters, Defense Logistics Agency, ATTN: DSS-C, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on May 17, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 23, 2001.
L.M. Bynum,
Alternate OSD Federal Register Liaison Officer, Department of Defense.

S400.20 CA

System name:

Day Care Facility Registrant and Applicant Records (July 25, 1997, 62 FR 40053).

Changes:

* * * * *

System identifier:

Delete ‘CA’ from entry.

* * * * *

Categories of records in the system:

Delete entry and replace with ‘The system contains the registrant’s or applicant's name, Social Security Number and birth data; home and emergency addresses; medical, dental, and insurance provider data; medical examination reports, health assessments, and screening results; immunization, allergy, medication, and injury records; physical abilities and limitations; physical, emotional, or other special care requirements; transportation requirements and schedules; parental disabilities, impairments, or special needs; authorization, consent, and agreement forms; incident reports; and sponsor, escort, and emergency contact name and data to include physical and electronic addresses and work, home, cell, and pager telephone numbers. The records may include family background, cultural, and ethnic data such as religion, native language, and family composition for cultural and social enrichment activities. For fee assessment purposes, the application records also include family income data'.

* * * * *

Retention and disposal:

Delete entry and replace with ‘Enrollee records involving no serious accident or injury requiring emergency medical records are destroyed 1 year after enrollee withdraws from the program. Enrollee records involving a serious accident or injury requiring emergency medical records are destroyed 3 years after the incident or after the enrollee withdraws from the program, whichever is later.’

* * * * *

S400.20

System name:

Day Care Facility Registrant and Applicant Records.

System location:

Defense Logistics Agency Primary Level Field Activities.

fficial mailing addresses are published as an appendix to DLA's compilation of systems of records notices.

Categories of individuals covered by the system:

Individuals and their sponsors who are enrolled in, or have applied for admission to, DLA-managed day care facilities.

Categories of records in the system:

The system contains the registrant's or applicant's name, Social Security Number and birth data; home and emergency addresses; medical, dental, and insurance provider data; medical examination reports, health assessments, and screening results; immunization, allergy, medication, and injury records; physical abilities and limitations; physical, emotional, or other special care requirements; transportation requirements and schedules; parental disabilities, impairments, or special needs; authorization, consent, and agreement forms; incident reports; and sponsor, escort, and emergency contact name and data to include physical and electronic addresses and work, home, cell, and pager telephone numbers. The records may include family background, cultural, and ethnic data such as religion, native language, and family composition for cultural and social enrichment activities. For fee assessment purposes, the application records also include family income data.

Note: Any and all information relating to an individual's religious preference or religious activity is collected and maintained only if the individual has made an informed decision to voluntarily provide the information.

Authority for maintenance of the system:

5 U.S.C. 301, Departmental regulations; 5 U.S.C. 302, Delegation of authority; 10 U.S.C. 133, Under Secretary of Defense for Acquisition, Technology, and Logistics; 10 U.S.C. 2809 and 2812, Military construction of child care facilities; 42 U.S.C. Chap. 127, Coordinated services for children, youth, and families; 40 U.S.C. 490b, Child care services for Federal employees; 42 U.S.C. Chap. 67, Child abuse programs; Pub. L. 101-189, Title XV, Military Child Care Act of 1989; E.O. 9397 (SSN); and DoD Instruction 6060.2, Child Development Programs.

Purpose(s):

To provide day care services.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To physicians, dentists, medical technicians, hospitals, or health care providers in the course of obtaining emergency medical attention.

To federal, state, and local officials involved with child care or health services for the purpose of reporting suspected or actual child abuse.

The DoD ‘Blanket Routine Uses’ set forth at the beginning of DLA's compilation of systems of records notices apply to this system.

Policies and practices for storing, retrieving, accessing, retaining and disposing of records in the system:

Storage:

Records are stored in paper and computerized form.

Retrievability:

Retrieved by registrant's or applicant's name or Social Security Number, and sponsor's name or Social Security Number.

Safeguards:

Records are maintained in areas accessible only to DLA personnel who must access the records to perform their official duties.

The computer files are password protected with access restricted to authorized users.

Retention and disposal:

Enrollee records involving no serious accident or injury requiring emergency medical records are destroyed 1 year after enrollee withdraws from the program. Enrollee records involving a serious accident or injury requiring emergency medical records are destroyed 3 years after the incident or after the enrollee withdraws from the program, whichever is later.

System manager(s) and address:

Director, DLA Support Services Headquarters, Defense Logistics Agency, 8725 John J. Kingman Road, Suite 2533, Fort Belvoir, VA 22060-6221, and the Commanders of the Defense Logistics Agency (DLA) Primary Level Field Activities (PLFAs). Official mailing addresses are published as an appendix to DLA's compilation of systems of records notices.

Notification procedure:

Individuals seeking to determine whether this system of records contains information about themselves should address written inquiries to the Privacy Act Officer, HQ DLA, ATTN: DSS-C, 8725 John J. Kingman Road, Suite 2533, Fort Belvoir, VA 22060-6221, or the Privacy Act Officer of the particular DLA PLFA involved.

Official mailing addresses are published as an appendix to DLA's compilation of systems of records notices.

Record access procedures:

Individuals seeking access to records about themselves contained in this system should address written inquiries to the Privacy Act Officer, HQ DLA, ATTN: DSS-C, 8725 John J. Kingman Road, Suite 2533, Fort Belvoir, VA 22060-6221, or the Privacy Act Officer of the particular DLA PLFA involved. Official mailing addresses are published as an appendix to DLA's compilation of systems of records notices.

Contesting record procedures:

The DLA rules for accessing records, for contesting contents and appealing initial agency determinations are contained in DLA Regulation 5400.21, 32 CFR part 323, or may be obtained from the Privacy Act Officer, Headquarters, Defense Logistics Agency, ATTN: DSS-C, 8725 John J. Kingman Road, Suite 2533, Fort Belvoir, VA 22060-6221.

Record source categories:

Information is provided by the registrant or the registrant's sponsor.

Exemptions claimed for the system:

None.

[FR Doc. 01-13753 Filed 5-31-01; 8:45 am]

BILLING CODE 5001-08-P